DEPARTMENT OF EDUCATION

Final Waiver and Extension of the Project Period; Striving Readers Comprehensive Literacy Program

AGENCY: Office of Elementary and Secondary Education, Department of Education.

ACTION: Final waiver and extension of the project period.

[Catalog of Federal Domestic Assistance (CFDA) Number: 84.371C.]

SUMMARY: For the Montana Department of Education's 36-month grant project funded in fiscal year (FY) 2011, under the Striving Readers Comprehensive Literacy program (SRCL), the Secretary waives the requirements that generally prohibit project period extensions involving the obligation of additional Federal funds. The Secretary also extends the current Montana SCRL project period for an additional 24 months.

DATES: This final waiver and extension of the project period are effective August 6, 2014.

FOR FURTHER INFORMATION CONTACT: Rosemary Fennell, U.S. Department of Education, 400 Maryland Avenue SW., Room 3E228, Washington, DC 20202-5970. Telephone: (202) 401-2425 or by email: rosemary.fennell@ed.gov.

If you use a telecommunications device for the deaf (TDD) or a text telephone (TTY), call the Federal Relay Service (FRS), toll free, at 1-800-877-8339.

SUPPLEMENTARY INFORMATION: On May 20, 2014, we published a notice in the Federal Register (79 FR 28917) (May 2014 proposed waiver) proposing an extension of a project period and a waiver of the requirement of 34 CFR 75.261(a) and (c)(2), which restricts project period extensions involving the obligation of additional Federal funds, as it applies to the Montana Department of Education's project funded under the FY 2011 SRCL competition. The Secretary also proposed to extend this grantee's project period for an additional 24 months.

Public Comment

In the May 2014 proposed waiver, the Secretary invited comments on the proposed waiver and extension of the project period. We received 21 comments in response.

Analysis of Comments and Changes

Comment: The 21 commenters who addressed the proposed waiver and extension supported it, discussed the accomplishments of the current SRCL grantee and benefits of the program, and stated that an extension of the project period would allow the grantee to continue its work and expand on its accomplishments. We did not receive any negative comments regarding the proposed waiver and extension of the project period.

Response: We agree with the commenters that extending the current SCRL grant period for one grantee, the Montana Department of Education and, therefore allowing this grantee to request a continuation award, would enable it to continue to work toward accomplishing its goals and objectives stated in its approved 2011 SCRL grant application.

Change: None.

Background

In FY 2010, Congress appropriated $200 million to support establishment of a comprehensive literacy development and education program through the Consolidated Appropriations Act (Pub. L. 111-117) under section 1502 of the Elementary and Secondary Education Act of 1965, as amended (ESEA). The purpose of SRCL is to advance literacy skills—including pre-literacy skills, reading, and writing—for students from birth through grade 12, including limited-English-proficient students and students with disabilities. Section 1502 of the ESEA provides the authority for demonstration programs, like SCRL, that show promise of enabling children to meet challenging academic content and achievement standards. In FY 2010, the U.S. Department of Education (the Department) awarded $10 million in formula grants to 46 States, the District of Columbia, and the Commonwealth of Puerto Rico to establish or support State Literacy Teams with expertise in literacy development and education for children from birth to grade 12 to assist the States in developing a comprehensive literacy plan.

The Department also used FY 2010 funds to award set-aside grants to the Bureau of Indian Education and four Outlying Areas, and to award discretionary grants to six State educational agencies (SEAs) to create comprehensive literacy programs to advance literacy skills—including pre-literacy skills, reading, and writing—for students from birth through grade 12, including limited-English-proficient students and students with disabilities. The Department announced this discretionary grant competition in a notice inviting applications that was published in the Federal Register on March 10, 2011 (76 FR 13143) (March 2011 NIA). The grants awarded under the FY 2011 competition were for a project period of up to five years. The Department indicated in the March 2011 NIA that it planned to make continuation awards in accordance with section 75.253 of the Education Department's General Administrative Regulations (EDGAR) (34 CFR 75.253), depending on the availability of funds.

Five of the six SEA grantees funded under the FY 2011 grant competition submitted a budget for all five years of the grant period. One grantee, the Montana Department of Education, submitted a budget request for only three years, believing that it could request funding for years four and five after receiving a grant award. On March 25, 2014, the Montana Department of Education, Office of Public Instruction, requested to extend its project period for an additional two years.

As outlined in the May 2014 proposed waiver, the FY 2014 appropriation contained sufficient funding to continue Montana's grant. The appropriation for SCRL included $158 million, an increase of approximately $6 million over the FY 2013 funding level. The Department does not plan to conduct a new competition in FY 2014, as there are insufficient funds both to provide continuation grants and fund new grantees.

We believe it best serves the interests of the Department and the public to ensure that the full cohort of grantees, including Montana, has the opportunity to complete a full five-year program, as originally intended in the March 2011 NIA. Providing Montana an opportunity for an additional two years of funding, and in turn an additional two years of data on implementation, is consistent with the underlying purpose of the SRCL program funded under the Section 1502 demonstration authority: To provide data on the results of promising literacy practices implemented under the SRCL program.

Additionally, the Montana Department of Education's SRCL project is at a critical point; the State is working with participating local education agencies (LEA) to fully implement the State Literacy Plan, and to implement sustainability efforts and activities. The Montana SRCL Implementation Team continues it work to assess and evaluate the effectiveness of the implementation of the State Literacy Plan, and continues to identify and provide the support and resources necessary to ensure processes and systems created through the SRCL program are sustainable. The Montana Department of Education has used data-driven decisions, through its evaluation and assessment activities, to make improvements to the SRCL program across 10 LEAs and 32 schools. Without an extension of the project period to allow for the work that will lead to sustainability and full implementation of the State Literacy Plan, the SRCL program may cease in some LEAs and be greatly curtailed in others.

For these reasons, the Secretary waives the requirements in 34 CFR 75.261(a) and (c)(2) of EDGAR that generally prohibit project period extensions involving the obligation of additional Federal funds. The Secretary also extends the current Montana SCRL project period for an additional 24 months. This two-year extension of the project period will ensure seamless program delivery to the sub-grantees awarded under the Montana Department of Education SRCL grant award, as well as data on project implementation.

We will use the process stated in the March 2011 NIA and the regulations in 34 CFR 75.253 to make continuation awards based on information that each grantee provides, indicating that each grantee is making substantial progress performing its SRCL grant activities and is showing improvement against baseline data on specific indicators listed in the March 2011 NIA.

Any activities to be carried out during the remaining continuation years of the SCRL award must be consistent with, or be a logical extension of, the scope, goals, and objectives of each grantee's application as approved in the FY 2011 SCRL competition. With this final waiver and extension of the project period, the project period for the Montana SCRL grantee will be extended through September 30, 2016, which is the same ending date as the ending date for the other SCRL grantees' project periods.

Regulatory Flexibility Act Certification

The Secretary certifies that the waiver and extension of the project period will not have a significant economic impact on a substantial number of small entities. The entities that will be affected by this waiver and extension are the current SRCL grantees receiving Federal funds.

The Secretary certifies that the waiver and extension will not have a significant economic impact on these entities because minimal compliance costs are imposed by extending a single project already in existence, and the activities required to support the additional years of funding will not impose additional regulatory burdens or require unnecessary Federal supervision.

Paperwork Reduction Act of 1995

The final extension of project period and waiver do not contain any information collection requirements.

Intergovernmental Review

This program is subject to Executive Order 12372 and the regulations in 34 CFR parts 79. One of the objectives of the Executive order is to foster an intergovernmental partnership and a strengthened federalism. The Executive order relies on processes developed by State and local governments for coordination and review of proposed Federal financial assistance.

This document provides notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of the Department published in the Federal Register, in text or Adobe Portable Document Format (PDF). To use PDF you must have Adobe Acrobat Reader, which is available free at the site.

You may also access documents of the Department published in the Federal Register by using the article search feature at: www.federalregister.gov. Specifically, through the advanced search feature at this site, you can limit the search to documents published by the Department.

Program Authority: Consolidated Appropriations Act, 2010 (Pub. L. 111-117) under the Title I demonstration authority (Part E, Section 1502 of the ESEA).

Dated: August 1, 2014.
Deborah Delisle,
Assistant Secretary for Elementary and Secondary Education.

[FR Doc. 2014-18607 Filed 8-5-14; 8:45 am]

BILLING CODE 4000-01-P